THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: August 2, 2010.

Time: 8:30 a.m. to 5 p.m.

Room: 315.

Program: This meeting will review applications for Language, Linguistics, Rhetoric, and Communication in Fellowships, submitted to the Division of Research Programs at the May 4, 2010 deadline.

2. Date: August 2, 2010.

Time: 8:30 a.m. to 5 p.m.

Room: 415.

Program: This meeting will review applications for Middle Eastern Studies in Fellowships, submitted to the Division of Research Programs at the May 4, 2010 deadline.

3. Date: August 3, 2010.

Time: 9 a.m. to 5 p.m.

Room: 421.

Program: This meeting will review applications for Public Programming, submitted to the Office of Challenge Grants at the May 5, 2010 deadline.

4. Date: August 3, 2010.

Time: 8:30 a.m. to 5 p.m.

Room: 315.

Program: This meeting will review applications for South and Southeast Asian Studies in Fellowships, submitted to the Division of Research Programs at the May 4, 2010 deadline.

5. Date: August 3, 2010.

Time: 8:30 a.m. to 5 p.m.

Room: 415.

Program: This meeting will review applications for Medieval and Renaissance Studies in Fellowships, submitted to the Division of Research Programs at the May 4, 2010 deadline.

6. Date: August 3, 2010.

Time: 9 a.m. to 5 p.m.

Room: 421.

Program: This meeting will review applications for Public Programming, submitted to the Office of Challenge Grants at the May 5, 2010 deadline.

7. Date: August 4, 2010.

Time: 8:30 a.m. to 5 p.m.

Room: 315.

Program: This meeting will review applications for American History I in Fellowships, submitted to the Division of Research Programs at the May 4, 2010 deadline.

8. Date: August 4, 2010.

Time: 8:30 a.m. to 5 p.m.

Room: 415.

Program: This meeting will review applications for American History II in Fellowships, submitted to the Division of Research Programs at the May 4, 2010 deadline.

9. Date: August 5, 2010.

Time: 9 a.m. to 5 p.m.

Room: 421.

Program: This meeting will review applications for History II, submitted to the Office of Challenge Grants at the May 5, 2010 deadline.

10. Date: August 5, 2010.

Time: 8:30 a.m. to 5 p.m.

Room: 415.

Program: This meeting will review applications for American Studies II in Fellowships, submitted to the Division of Research Programs at the May 4, 2010 deadline.

11. Date: August 5, 2010.

Time: 8:30 a.m. to 5 p.m.

Room: 315.

Program: This meeting will review applications for Art History II in Fellowships, submitted to the Division of Research Programs at the May 4, 2010 deadline.

12. Date: August 6, 2010.

Time: 8:30 a.m. to 5 p.m.

Room: 315.

Program: This meeting will review applications for American History and Studies in Fellowships, submitted to the Division of Research Programs at the May 4, 2010 deadline.

13. Date: August 9, 2010.

Time: 8:30 a.m. to 5 p.m.

Room: 415.

Program: This meeting will review applications for Ancient and Classical Studies in Fellowships, submitted to the Division of Research Programs at the May 4, 2010 deadline.

14. Date: August 9, 2010.

Time: 8:30 a.m. to 5 p.m.

Room: 315.

Program: This meeting will review applications for Romance Studies in Fellowships, submitted to the Division of Research Programs at the May 4, 2010 deadline.

15. Date: August 10, 2010.

Time: 8:30 a.m. to 5 p.m.

Room: 315.

Program: This meeting will review applications for Art History I in Fellowships, submitted to the Division of Research Programs at the May 4, 2010 deadline.

16. Date: August 10, 2010.

Time: 8:30 a.m. to 5 p.m.

Room: 415.

Program: This meeting will review applications for Political Science and Jurisprudence in Fellowships, submitted to the Division of Research Programs at the May 4, 2010 deadline.

17. Date: August 11, 2010.

Time: 8:30 a.m. to 5 p.m.

Room: 315.

Program: This meeting will review applications for American Literature I in Fellowships, submitted to the Division of Research Programs at the May 4, 2010 deadline.

18. Date: August 11, 2010.

Time: 8:30 a.m. to 5 p.m.

Room: 415.

Program: This meeting will review applications for American Literature II in Fellowships, submitted to the Division of Research Programs at the May 4, 2010 deadline.

19. Date: August 12, 2010.

Time: 8:30 a.m. to 5 p.m.

Room: 415.

Program: This meeting will review applications for American History III in Fellowships, submitted to the Division of Research Programs at the May 4, 2010 deadline.

20. Date: August 12, 2010.

Time: 8:30 a.m. to 5 p.m.

Room: 315.

Program: This meeting will review applications for Sociology and Psychology in Fellowships, submitted to the Division of Research Programs at the May 4, 2010 deadline.

21. Date: August 16, 2010.

Time: 8:30 a.m. to 5 p.m.

Room: 315.

Program: This meeting will review applications for Advanced Social Science Research on Japan in Fellowships, submitted to the Division of Research Programs at the May 4, 2010 deadline.

22. Date: August 17, 2010.

Time: 8:30 a.m. to 5 p.m.

Room: 415.

Program: This meeting will review applications for American Literature and Studies in Awards for Faculty, submitted to the Division of Research Programs at the April 15, 2010 deadline.

23. Date: August 17, 2010.

Time: 8:30 a.m. to 5 p.m.

Room: 315.

Program: This meeting will review applications for History and Politics in Awards for Faculty, submitted to the Division of Research Programs at the April 15, 2010 deadline.

24. Date: August 18, 2010.

Time: 8:30 a.m. to 5 p.m.

Room: 315.

Program: This meeting will review applications for Literature, Philosophy, and the Arts in Awards for Faculty, submitted to the Division of Research Programs at the April 15, 2010 deadline.

25. Date: August 18, 2010.

Time: 8:30 a.m. to 5 p.m.

Room: 415.

Program: This meeting will review applications for Social Sciences and Ethnic Studies in Awards for Faculty, submitted to the Division of Research Programs at the April 15, 2010 deadline.

26. Date: August 19, 2010.

Time: 8:30 a.m. to 5 p.m.

Room: 415.

Program: This meeting will review applications for Old and New World Archaeology in Fellowships, submitted to the Division of Research Programs at the May 4, 2010 deadline.

27. Date: August 19, 2010.

Time: 8:30 a.m. to 5 p.m.

Room: 315.

Program: This meeting will review applications for Modern European History II in Fellowships, submitted to the Division of Research Programs at the May 4, 2010 deadline.

Michael P. McDonald,
Advisory Committee, Management Officer.

[FR Doc. 2010-17408 Filed 7-15-10; 8:45 am]

BILLING CODE 7536-01-P